DEPARTMENT OF AGRICULTURE

Rural Business-Cooperative Service

Notice of Request for Extension of a Currently Approved Information Collection

AGENCY: Rural Business-Cooperative Service, USDA.

ACTION: Proposed collection, comments requested.

SUMMARY: In accordance with the Paperwork Reduction Act of 1995, this notice announces the Rural Business-Cooperative Service's (RBS) intention to request an extension for a currently approved information collection in support of the Rural Cooperative Development Grants program.

DATES: Comments on this notice must be received by November 7, 2003, to be assured of consideration.

FOR FURTHER INFORMATION CONTACT: Marc Warman, Program Leader, Cooperative Services, Rural Business-Cooperative Service, U.S. Department of Agriculture, Stop 3250, Room 4016, South Agriculture Building, 1400 Independence Avenue, SW., Washington, DC 20250-3250. Telephone (202) 690-1431.

SUPPLEMENTARY INFORMATION: Title: Rural Cooperative Development Grants.

OMB Number: 0570-0006.

Expiration Date of Approval: November 30, 2003.

Type of Request: Intent to extend the clearance for collection of information under RD Instruction 4282-F, Rural Cooperative Development Grants.

Abstract: The primary purpose of the Rural Business-Cooperative Service (RBS) is to promote understanding, use, and development of the cooperative form of business as a viable option for enhancing the income of agricultural producers and other rural residents. The primary objective of the Rural Cooperative Development Grants program is to improve the economic condition of rural areas through cooperative development. Grants will be awarded on a competitive basis to nonprofit corporations and institutions of higher education based on specific selection criteria.

Estimate of Burden: Public reporting burden for this collection of information is estimated to average 36 hours per grant application.

Respondents: Nonprofit corporations and institutions of higher education.

Estimated Number of Respondents: 75.

Estimated Number of Responses per Respondent: 1.

Estimated Number of Responses: 75.

Estimated Total Annual Burden on Respondents: 2,675 hours.

Copies of this information collection can be obtained from Brigitte Sumter, Regulations and Paperwork Management Branch, at (202) 692-0042.

Comments: Comments are invited on: (a) Whether the proposed collection of information is necessary for the proper performance of RBS functions, including whether the information will have practical utility; (b) the accuracy of RBS' estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments may be sent to Brigitte Sumter, Regulations and Paperwork Management Branch, U.S. Department of Agriculture, Rural Development, Stop 0742, 1400 Independence Ave., SW., Washington, DC 20250. All responses to this notice will be summarized and included in the request for OMB approval. All comments will also become a matter of public record.

Dated: August 7, 2003.
John Rosso,
Administrator, Rural Business-Cooperative Service.

[FR Doc. 03-22849 Filed 9-8-03; 8:45 am]

BILLING CODE 3410-XY-U